FEDERAL MARITIME COMMISSION

[Docket No. 02-13]

Pro Transport, Inc. v. HSAC Logistics, Inc. f/k/a Columbus Line USA, Inc., Columbus Line, Inc., and Hamburg-Sud; Notice of Filing of Complaint and Assignment

Notice is given that a complaint has been filed with the Federal Maritime Commission (“Commission”) by Pro Transport, Inc. (“Complainant”) against HSAC Logistics, Inc. formerly known as Columbus Line USA, Inc., Columbus Line, Inc. and Hamburg-Sud (“Respondents”).

Complainant contends that Respondents violated section 10(b)(10) of the Shipping Act of 1984 by refusing to deal or negotiate in refusing to allow Complainant to use Hamburg-Sud gensets, which provide the electricity needed to keep refrigerated cargo containers (“reefers”) cooled. Complainant states that Respondents” refusal to provide gensets with its reefers make it impossible for the Complainant to transport those containers to its customers. Complainant also advises that the Respondents have refused to resolve this issue with the Complainant.

Complainant asks that Respondents be required to answer its charges and that the Commission order Respondents to: cease and desist from these violations; to establish and put into force such practices as the Commission determines to be lawful and reasonable; to pay Complainant reparations the amount the Commission determines to be proper as an award, with interest and attorney's fees; and such other and further order or orders the Commission determines to be proper. Complainant requests that any hearings be held in Miami, Florida.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 21, 2003, and the final decision of the Commission shall be issued by December 20, 2004.

Bryant L. VanBrakle,
Secretary.

[FR Doc. 02-21822 Filed 8-27-02; 8:45 am]

BILLING CODE 6730-01-P